COMMITTEE FOR PURCHASE FROM PEOPLE WHO ARE BLIND OR SEVERELY DISABLED

Procurement List Additions and Deletions

AGENCY: Committee for Purchase From People Who Are Blind or Severely Disabled.

ACTION: Additions to and deletions from procurement list.

SUMMARY: This action adds to the Procurement List products and services to be furnished by nonprofit agencies employing persons who are blind or have other severe disabilities, and deletes from the Procurement List services previously furnished by such agencies.

Effective Date: January 8, 2006.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly, Telephone: (703) 603-7740, Fax: (703) 603-0655, or e-mail SKennerly@jwod.gov.

SUPPLEMENTARY INFORMATION:

Additions

On September 16, September 30, October 7, and October 14, 2005, the Committee for Purchase From People Who Are Blind or Severely Disabled published notice (70 FR 54709, 57253, 58669, and 60062) of proposed additions to the Procurement List.

After consideration of the material presented to it concerning capability of qualified nonprofit agencies to provide the products and services and impact of the additions on the current or most recent contractors, the Committee has determined that the products and services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 46-48c) in connection with the products and services proposed for addition to the Procurement List.

End of Certification

Accordingly, the following products and services are added to the Procurement List:

Products

Product/Name(s)/NSN(S): Americana Pen (GSA Global Supply Only).

NSN: 7520-01-529-1850—Refillable, Black Ink

NPA: Industries for the Blind, Inc., Milwaukee, Wisconsin

Contracting Activity: Office Supplies & Paper Products Acquisition Center, New York, New York

Product/Name(s)/NSN(S): Eyeglasses.

CR 39—Frames and Lenses

NSN: 6650-00-NIB-0012—Round 25 and 28 Bifocal, Plastic, Clear

NSN: 6650-00-NIB-0015—Progressives (VIP, Adaptar, Freedom, Image), Plastic, Clear

NSN: 6650-00-NIB-0009—Single Vision, Plastic, Clear

NSN: 6650-00-NIB-0013—Flat Top 7x28 Trifocal, Plastic, Clear

NSN: 6650-00-NIB-0014—Flat Top 8x35 Trifocal, Plastic, Clear

NSN: 6650-00-NIB-0018—Executive Bifocal, Plastic, Clear

NSN: 6650-00-NIB-0017—FT or round aspheric lenticular, Plastic, Clear

NSN: 6650-00-NIB-0016—SV aspheric lenticular, Plastic, Clear

NSN: 6650-00-NIB-0010—Flat Top 28, Bifocal, Plastic, Clear

NSN: 6650-00-NIB-0011—Flat Top 35, Bifocal, Plastic, Clear

CR 39—Lenses only

NSN: 6650-00-NIB-0033—Flat Top 28, Bifocal, Plastic, Clear

NSN: 6650-00-NIB-0034—Flat Top 35, Bifocal, Plastic, Clear

NSN: 6650-00-NIB-0032—Single Vision, Plastic, Clear

NSN: 6650-00-NIB-0041—Executive Bifocal, Plastic, Clear

NSN: 6650-00-NIB-0040—FT or round aspheric lenticular, Plastic, Clear

NSN: 6650-00-NIB-0039—SV aspheric lenticular, Plastic, Clear

NSN: 6650-00-NIB-0038—Progressives (VIP, Adaptar, Freedom, Image), Plastic, Clear

NSN: 6650-00-NIB-0037—Flat Top 8x35 Trifocal, Plastic, Clear

NSN: 6650-00-NIB-0036—Flat Top 7x28 Trifocal, Plastic, Clear

NSN: 6650-00-NIB-0035—Round 25 and 28 Bifocal, Plastic, Clear

Frame only

NSN: 6650-00-NIB-0069—Plastic or Metal

Glass—Frames and Lenses

NSN: 6650-00-NIB-0025—Executive Bifocal, Glass, Clear

NSN: 6650-00-NIB-0024—Progressives (VIP, Adaptar, Freedom), Glass, Clear

NSN: 6650-00-NIB-0023—Flat Top 8x35 Trifocal, Glass, Clear

NSN: 6650-00-NIB-0022—Flat Top 7x28 Trifocal, Glass, Clear

NSN: 6650-00-NIB-0021—Flat Top 35 Bifocal, Glass, Clear

NSN: 6650-00-NIB-0020—Flat Top 28 Bifocal, Glass, Clear

NSN: 6650-00-NIB-0019—Single Vision, Glass, Clear

Glass—Lenses only

NSN: 6650-00-NIB-0042—Single Vision, Glass, Clear

NSN: 6650-00-NIB-0048—Executive Bifocal, Glass, Clear

NSN: 6650-00-NIB-0047—Progressives (VIP, Adaptar, Freedom), Glass, Clear

NSN: 6650-00-NIB-0046—Flat Top 8x35 Trifocal, Glass, Clear

NSN: 6650-00-NIB-0045—Flat Top 7x28 Trifocal, Glass, Clear

NSN: 6650-00-NIB-0044—Flat Top 35 Bifocal, Glass, Clear

NSN: 6650-00-NIB-0043—Flat Top 28 Bifocal, Glass, Clear

Lens Add-ons

NSN: 6650-00-NIB-0068—Add powers over 4.0

NSN: 6650-00-NIB-0067—Hyper 3 drop SV, multifocal (CR 39)

NSN: 6650-00-NIB-0066—Lenses, oversize eye, greater than 58, excluding progressive roll and polish edge (CR 39 and polycarbonate)

NSN: 6650-00-NIB-0065—Diopter + or − 9.0 and above

NSN: 6650-00-NIB-0064—Prism (up to 6 diopters no charge) > 6 diopters/per diopter

NSN: 6650-00-NIB-0063—High Index (CR 39)

NSN: 6650-00-NIB-0062—Slab-off (polycarbonate, CR 39: trifocal and bifocals)

Polycarbonate—Frames and Lenses

NSN: 6650-00-NIB-0031—Progressives (VIP, Adaptar, Freedom, Image), Polycarbonate

NSN: 6650-00-NIB-0030—Flat Top 8x35 Trifocal, Polycarbonate, Clear

NSN: 6650-00-NIB-0029—Flat Top 7x28 Trifocal, Polycarbonate, Clear

NSN: 6650-00-NIB-0028—Flat Top 35 Bifocal, Polycarbonate, Clear

NSN: 6650-00-NIB-0027—Flat Top 28 Bifocal, Polycarbonate, Clear

NSN: 6650-00-NIB-0026—Single Vision, Polycarbonate, Clear

Polycarbonate—Lenses only

NSN: 6650-00-NIB-0054—Progressives (VIP, Adaptar, Freedom, Image), Polycarbonate

NSN: 6650-00-NIB-0053—Flat Top 8x35 Trifocal, Polycarbonate, Clear

NSN: 6650-00-NIB-0052—Flat Top 7x28 Trifocal, Polycarbonate, Clear

NSN: 6650-00-NIB-0051—Flat Top 35 Bifocal, Polycarbonate, Clear

NSN: 6650-00-NIB-0050—Flat Top 28 Bifocal, Polycarbonate, Clear

NSN: 6650-00-NIB-0049—Single Vision, Polycarbonate, Clear

Tints and Coatings

NSN: 6650-00-NIB-0060—ultraviolet coating (CR 39)

NSN: 6650-00-NIB-0059—anti-reflective coating (CR 39 and polycarbonate)

NSN: 6650-00-NIB-0058—High Index transition (CR 39)

NSN: 6650-00-NIB-0057—Photogrey (glass only)

NSN: 6650-00-NIB-0056—Photochromatic/Transition, (POLYCARBONATE MATERIAL)

NSN: 6650-00-NIB-0061—polarized lenses (CR 39)

NSN: 6650-00-NIB-0055—Transition, Plastic, CR-39

NPA: Winston-Salem Industries for the Blind, Winston-Salem, North Carolina

Contracting Activity: VISN 2—VA Healthcare Network Update New York, Buffalo, New York

Product/Name(s)/NSN(S): Parts Kit, Hydraulic Transmission

NSN: 2520-01-398-4589—Parts Kit, Hydraulic Transmission

NPA: Goodwill Industries—Knoxville, Inc., Knoxville, Tennessee

Contracting Activity: Defense Supply Center Columbus, Columbus, Ohio

Product/Name(s)/NSN(S): V Belt

NSN: 3030-01-375-8087—.688 x 43.125 inches

NPA: East Texas Lighthouse for the Blind, Tyler, Texas

Contracting Activity: Defense Supply Center Philadelphia, Philadelphia, Pennsylvania

Services

Service Type/Location: Custodial Services, U.S. Geological Survey—Warehouse, 800 Ship Creek Avenue, USGS Storage Area

Huffman Business Park, Building P, 12100 Industry Way, Anchorage, Alaska

NPA: Assets, Inc., Anchorage, Alaska

Contracting Activity: U.S. Geological Survey—Oregon, Corvallis, Oregon

Service Type/Location: Custodial, Warehousing, Shelf Stocking, Defense Commissary Agency, Hurlburt Field Commissary, Hurlburt Field Air Force Base, Fort Walton Beach, Florida

NPA: Brevard Achievement Center, Inc., Rockledge, Florida

Contracting Activity: Defense Commissary Agency (DeCA), Fort Lee, Virginia

Deletions

On October 14, 2005, the Committee for Purchase From People Who Are Blind or Severely Disabled published notice (70 FR 60063) of proposed deletions to the Procurement List.

After consideration of the relevant matter presented, the Committee has determined that the services listed below are no longer suitable for procurement by the Federal Government under 41 U.S.C. 46-48c and 41 CFR 51-2.4.

Regulatory Flexibility Act Certification

I certify that the following action will not have a significant impact on a substantial number of small entities. The major factors considered for this certification were:

1. The action may result in additional reporting, recordkeeping or other compliance requirements for small entities.

2. The action may result in authorizing small entities to furnish the services to the Government.

3. There are no known regulatory alternatives which would accomplish the objectives of the Javits-Wagner-O'Day Act (41 U.S.C. 46-48c) in connection with the services deleted from the Procurement List.

End of Certification

Accordingly, the following services are deleted from the Procurement List:

Services

Service Type/Location: Janitorial/Custodial, Naval Reserve Readiness Command, Regional North Central, 715 Apollo Avenue, Minneapolis, Minnesota

NPA: AccessAbility, Inc., Minneapolis, Minnesota

Contracting Activity: Naval Facilities Engineering Command Contracts

Service Type/Location: Janitorial/Custodial, U.S. Army Reserve Center, Kenton, Jacob Parrott, 707 N. Ida Street, Kenton, Ohio

NPA: None Currently Authorized

Contracting Activity: Department of the Army

Service Type/Location: Janitorial/Custodial, U.S. Coast Guard, 2420 South Lincoln Memorial Parkway, Milwaukee, Wisconsin

NPA: GWS, Inc., Waukegan, Illinois

Contracting Activity: U.S. Coast Guard, Dept. of Transportation

Sheryl D. Kennerly,
Director, Information Management.

[FR Doc. E5-7133 Filed 12-8-05; 8:45 am]

BILLING CODE 6353-01-P